DEPARTMENT OF STATE

Bureau of Educational and Cultural Affairs (ECA)

[Public Notice 4442]

Notice: Dun and Bradstreet (D&B) Data Universal Numbering System (DUNS) Requirement for all FY-2004 ECA Grants and Cooperative Agreements

SUMMARY: This announcement applies to all ECA Requests for Grant Proposals (RFGP) currently published in the Federal Register. An Office of Management and Budget (OMB) policy directive published in the Federal Register on Friday, June 27, 2003, requires that all organizations applying for Federal grants or cooperative agreements must provide a Dun and Bradstreet (D&B) Data Universal Numbering System (DUNS) number when applying for all Federal grants or cooperative agreements on or after October 1, 2003. This identifier will be used for tracking purposes and to validate address and point of contract information. Organizations can receive a DUNS number at no cost by calling the dedicated toll-free DUNS Number request line at 1-866-705-5711 or by applying online at this address: http://www.dnb.com/us/duns_update/.

To comply with this directive, the Bureau of Educational and Cultural Affairs (ECA) requests that all organizations submitting proposals for grants with a start date on or after October 1, 2003 include a DUNS number with each grant application. Please write in the DUNS number in box number five, next to the Employer Identification Number (EIN) on the ECA “Assistance Award Proposal Cover Sheet” contained in the Bureau's Proposal Submission Instructions (PSI) application package.

OMB is currently in the process of revising the Application for Federal Assistance Form (SF-424) to include a space for inclusion of the applicant's DUNS number. This revised SF-424 will eventually replace ECA's current “Assistance Award Proposal Cover Sheet” and will be incorporated into the PSI.

Additional Information: For a list of currently published grant announcements, please visit ECA's Web site at http://exchanges.state.gov/education/rfgps/. The complete OMB policy directive can be referenced at http://www.whitehouse.gov/omb/fedreg/062703_grant_identifier.pdf.

Dated: August 7, 2003.
C. Miller Crouch,
Principal Deputy Assistant Secretary, Bureau of Educational and Cultural Affairs, Department of State.

[FR Doc. 03-20750 Filed 8-13-03; 8:45 am]

BILLING CODE 4710-05-M